DEPARTMENT OF TRANSPORTATION

Federal Aviation Administration

[Policy Statement No. ANE-1998-33.69-R1]

Policy for Evaluating Ignitions System Requirements

AGENCY: Federal Aviation Administration, DOT.

ACTION: Notice of proposed policy statement; request for comments.

SUMMARY: The Federal Aviation Administration (FAA) announces the availability of a proposed policy for evaluating compliance with the airworthiness certification standards for ignition systems on turbine powered aircraft engines. This proposed policy would revise the current policy to include derivative engine models with significant service experience.

DATES: Comments must be received by February 9, 2001.

ADDRESSES: Send all comments on the proposed policy to the individual identified under FOR FURTHER INFORMATION CONTACT.

FOR FURTHER INFORMATION CONTACT: John Fisher, FAA, Engine and Propeller Standards Staff, ANE-110, 12 New England Executive Park, Burlington, MA 01803; e-mail: <john.fisher@faa.gov>; telephone: (781) 238-7149; fax: (781) 238-7199.

SUPPLEMENTARY INFORMATION:

Comments Invited

The proposed policy statement is available on the Internet at the following address: <http://www.faa.gov/avr/air/ane/ane110/hpage.htm>. If you do not have access to the Internet, you may request a copy by contacting the individual listed under FOR FURTHER INFORMATION CONTACT. The FAA invites interested parties to comment on the proposed policy. Comments should identify the subject of the proposed policy and be submitted to the individual identified under FOR FURTHER INFORMATION CONTACT. The FAA will consider all comments received by the closing date before issuing the final policy.

Background

The proposed policy statement would supersede FAA policy statement number 1998-33.69-R0, dated October 23, 1998. The intent of this proposed policy is to clarify the policy regarding § 33.69 of Title 14 of the Code of Federal Regulations. This proposed policy would assist the Aircraft Certification Offices (ACOs) in evaluating applications for aircraft engine type certification. The FAA has revised this policy to include guidance for evaluating derivative engine models with significant service experience.

Authority: 49 U.S.C. 106(g), 40113, 44701-44702, 44704.

Issued in Burlington, Massachusetts, on January 2, 2001.
David A. Downey,
Assistant Manager, Engine and Propeller Directorate, Aircraft Certification Service.

[FR Doc. 01-702 Filed 1-9-01; 8:45 am]

BILLING CODE 4910-13-P